DEPARTMENT OF COMMERCE

National Oceanic and Atmospheric Administration

Agency Information Collection Activities; Submission to the Office of Management and Budget (OMB) for Review and Approval; Comment Request; National Sea Turtle Stranding and Salvage Network Stranding and Gear Interaction Data Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 5, 2022 (87 FR 39806) during a 60-day comment period. This notice allows for an additional 30 days for public comments.

Agency: National Oceanic & Atmospheric Administration (NOAA), Commerce.

Title: National Sea Turtle Stranding and Salvage Network Stranding and Gear Interaction Data Collection.

OMB Control Number: 0648-0496.

Form Number(s): None.

Type of Request: Regular submission, revision and extension of approved collection.

Number of Respondents: 750.

Average Hours per Response: STSSN Stranding Report form: 15 minutes; Gross Necropsy form (2 page version): 10 minutes; Gross Necropsy form (4 page version): 15 minutes; Cold Stun form and Cold Stun batch form: 10 minutes; Fishing Gear Identification form: 10 minutes; Incidental Capture Intake form: 5 minutes; Entanglement form: 15 minutes.

Total Annual Burden Hours: 1,682 annually.

Needs and Uses: This is a request for revision and extension of collection 0648-0496 entitled “Reporting of Sea Turtle Entanglement in Fishing Gear or Marine Debris”. We request to revise the name of the collection from “Reporting of Sea Turtle Entanglement in Fishing Gear or Marine Debris” to “National Sea Turtle Stranding and Salvage Network Stranding and Gear Interaction Data Collection” and to add new forms to the collection to be inclusive of all forms used by Sea Turtle Stranding and Salvage Network (STSSN).

NOAA's National Marine Fisheries Service (NOAA Fisheries) and the U.S. Fish and Wildlife Service (USFWS) share federal jurisdiction for the conservation and recovery of sea turtles. In accordance with the 1977 Memorandum of Understanding between NOAA Fisheries and USFWS, which was reaffirmed in 2015, NOAA Fisheries serves as the lead for and coordinator of the STSSN. The STSSN currently responds to, and documents, sick, injured and dead (i.e., `stranded') sea turtles that are found in coastal areas under U.S. jurisdiction along the Atlantic Ocean and Gulf of Mexico. NOAA Fisheries Office of Protected Resources coordinates the STSSN. The Sea Turtle Disentanglement Network (STDN) is a part of the STSSN. The STSSN is a cooperative effort of authorized Federal, State, and private partners working to inform causes of morbidity and mortality in sea turtles by responding to and documenting stranded sea turtles. Information is collected in a manner sufficient to inform sea turtle conservation management and recovery. The STSSN accomplishes this through (1) collection of data in accordance with STSSN protocols; (2) improved understanding of causes of death and threats to sea turtles; (3) monitoring of stranding trends; (4) provision of initial aid to live stranded sea turtles; (5) provision of sea turtle samples/parts for conservation-relevant research; and (6) availability of timely data for conservation management purposes. To facilitate this data collection, the STSSN uses several standardized data collection forms. To ensure all data collected by the STSSN are in the same collection, we propose adding the following forms to 0648-0496: STSSN Stranding Report form, Gross Necropsy forms (2 page and 4 page versions), Cold Stun Event individual and batch forms, Fishing Gear Identification form, and Incidental Capture Intake form (currently approved in collection 0648-0774, expiring December 31, 2024).

All species of sea turtle found in U.S. waters are listed as endangered or threatened under the Endangered Species Act (ESA). NOAA Fisheries and the USFWS share federal jurisdiction for the conservation and recovery of sea turtles. Section 4(f) of the ESA (16 U.S.C. 1531-1544) provides for the creation of Recovery Plans for endangered and threatened species and provides NOAA Fisheries and USFWS with authority “to procure the services of appropriate public and private agencies and institutions and other qualified persons” in order to implement those plans. To advance the conservation and recovery of listed sea turtles, each sea turtle recovery plan developed jointly by NOAA Fisheries and USFWS identifies and highlights the need to maintain an active stranding network. Both NOAA Fisheries and USFWS have promulgated regulations that provide an exception to the prohibitions on take and allow for coordinated response to stranded sea turtles in water and on land, based on their specific jurisdictional responsibility.

Affected Public: Individuals or households; Not-for-profit institutions; State, local, or Tribal government; Federal Government.

Frequency: As needed as sea turtle strandings occur and are reported.

Respondent's Obligation: Voluntary.

Legal Authority: Collection of these data to inform causes of morbidity and mortality in sea turtles is necessary to fulfill statutory requirements of the Endangered Species Act (16 U.S.C. 1531 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0496.

Sheleen Dumas,
Department PRA Clearance Officer, Office of the Under Secretary for Economic Affairs, Commerce Department.

[FR Doc. 2023-13651 Filed 6-26-23; 8:45 am]

BILLING CODE 3510-22-P